ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday and Tuesday, November 9-10, 2015 at the times and location listed below.

DATES: The schedule of events is as follows:

Monday, November 9, 2015

1:30-2:30 p.m. Ad Hoc Committee on Frontier Issues

2:30-3:00 Ad Hoc Committee on Design Guidance

3:00-4:30 Technical Programs Committee

Tuesday, November 10, 2015

10:30-11:00 a.m. Ad Hoc Committee Meetings: Closed

11:00-11:30 Planning and Evaluation Committee

11:30-Noon Budget Committee

1:30-3:00 Board Meeting

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Tuesday, November 10, 2015, the Access Board will consider the following agenda items:

• Approval of the draft September 10, 2015 meeting minutes (vote)

• Ad Hoc Committee Reports: Frontier Issues; Design Guidance; Information and Communications Technologies; and, Public Rights-of-Way and Shared Use Paths

• Budget Committee

• Technical Programs Committee

• Planning and Evaluation Committee

• Election Assistance Commission Report

• Executive Director's Report

• Public Comment (final 15 minutes of the meeting)

Members of the public can provide comments either in-person or over the telephone during the final 15 minutes of the Board meeting on Tuesday, November 10, 2015. Any individual interested in providing comment is asked to pre-register by sending an email to bunales@access-board.gov with the subject line “Access Board meeting—Public Comment” with your name, organization, state, and topic of comment included in the body of your email. All emails to register for public comment must be received by Wednesday, November 4, 2015. Commenters will be called on in the order by which they pre-registered. Due to time constraints, each commenter is limited to two minutes. Commenters on the telephone will be in a listen-only capacity until they are called on. Use the following call-in number: (877) 701-1628; passcode: 41662680 and dial in 5 minutes before the meeting begins at 1:30 p.m.

All meetings are accessible to persons with disabilities. An assistive listening system, Communication Access Realtime Translation (CART), and sign language interpreters will be available at the Board meeting and committee meetings.

Persons attending Board meetings are requested to refrain from using perfume, cologne, and other fragrances for the comfort of other participants (see www.access-board.gov/the-board/policies/fragrance-free-environment for more information).

You may view the Tuesday, November 10, 2015 meeting through a live captioned webcast from 1:30 p.m. to 3:00 p.m. at: http://www.access-board.gov/webcast.

David M. Capozzi,
Executive Director.

[FR Doc. 2015-26430 Filed 10-16-15; 8:45 am]

BILLING CODE 8150-01-P